DEPARTMENT OF ENERGY

National Energy Technology Laboratory

Notice of Availability of a Financial Assistance Solicitation

AGENCY: National Energy Technology Laboratory, Department of Energy (DOE).

ACTION: Notice of availability of a Financial Assistance Solicitation.

SUMMARY: Notice is hereby given of the intent to issue Financial Assistance Solicitation No. DE-PS26-02NT41428 entitled “Clean Coal Power Initiative.” A draft program solicitation, as a precursor to potentially awarding multiple financial assistance cooperative agreements, is now being developed. Following release of the draft solicitation, expected in December 2001, a comment and response session with industry and other potential partners will be conducted prior to final issuance of the program solicitation. Final issuance of the program solicitation is slated for February 18, 2002 with awards expected late in fiscal year 2003. DOE will provide between $300-$400 million to fund the program, and industry must match (or exceed) the government cost share for every project. DOE anticipates making multiple awards under this program solicitation.

DATES: The draft solicitation will be available via the DOE's Industry Interactive Procurement System (IIPS) at http://www.netl.doe.gov/business on or about December 21, 2001.

ADDRESSES: For the contact to submit comments, where documents can be obtained, where meetings are being held, please see the FOR FURTHER INFORMATION CONTACT.

FOR FURTHER INFORMATION CONTACT: Jo Ann C. Zysk, MS 921-107, U.S. Department of Energy, National Energy Technology Laboratory, P.O. Box 10940, E-mail Address: zysk@netl.doe.gov, Telephone Number: (412) 386-6600.

SUPPLEMENTARY INFORMATION: The Clean Coal Power Initiative (CCPI) is a cost-shared partnership between the government and industry to demonstrate advanced coal-based, power generation technologies. The goal is to accelerate commercial deployment of advanced technologies to ensure that the United States has clean, reliable, and affordable electricity. Electric power produced from coal is fundamental to a strong U.S. economy and to domestic energy security.

This CCPI solicitation is open to any technology advancement related to coal-based power generation that results in efficiency, environmental, and economic improvement compared to currently available state-of-the-art alternatives. The solicitation is also open to technologies capable of producing any combination of heat, fuels, chemicals, or other useful byproducts in conjunction with power generation. Prospective projects must ensure that coal is used for at least 75% of the fuel energy input to the process. Additionally, prospective projects must show the potential for rapid market penetration upon successful demonstration of the technology or concept.

The advanced technologies to be demonstrated under this program will be vital to the role that coal and other solid fuels will play on the world power production scene. Production of more electricity while creating a cleaner environment at lower cost has the potential to raise the standard of living of not only the citizens of the United States, but of the world as a whole.

Prospective applicants who would like to be notified as soon as the draft solicitation is available should register at http://www.netl.doe.gov/business. Click on the “Business Alert Registration and follow the instructions. Once you subscribe, you will receive an announcement by E-mail that the draft solicitation has been released to the public. Telephone requests, written requests, E-mail requests, or facsimile requests for a copy of the draft solicitation package will not be accepted and/or honored. The draft solicitation will be open for public comments on December 21, 2001. A public meeting/webcast will be held on January 17, 2002 and the draft solicitation will be closed to public comments on January 23, 2002.

The final solicitation will be made available on or about February 18, 2002. Applications must be prepared and submitted in accordance with the instructions and forms contained in the solicitation. The final solicitation document will allow for requests for explanation and/or interpretation.

Issued in Pittsburgh, PA on December 19, 2001.
Dale A. Siciliano,
Deputy Director, Acquisition and Assistance Division.

[FR Doc. 02-212 Filed 1-3-02; 8:45 am]

BILLING CODE 6450-01-P